DEPARTMENT OF TRANSPORTATION

Maritime Administration

[Docket No. 2008 0015]

Reports, Forms and Recordkeeping Requirements Agency Information Collection Activity Under OMB Review

AGENCY: Maritime Administration, DOT.

ACTION: Notice and request for comments.

SUMMARY: In accordance with the Paperwork Reduction Act of 1995, this notice announces the Maritime Administration's (MARAD) intention to request the Office of Management and Budget's (OMB) approval for a new information collection related to marine transportation economic impact model data needs.

DATES: Comments must be submitted on or before March 24, 2008.

FOR FURTHER INFORMATION CONTACT: Wassel Mashagbeh, Maritime Administration, MAR-700, 1200 New Jersey Avenue, SE., Washington, DC 20590. Telephone: (202) 366-1715 or E-Mail: wassel.mashagbeh@dot.gov. Copies of this collection can also be obtained from that office.

SUPPLEMENTARY INFORMATION: Maritime Administration (MARAD)

Title of Collection: Marine Transportation Economic Impact Model Data Needs.

Type of Request: New collection.

OMB Control Number: 2133-New.

Expiration Date of Approval: Three years from date of approval by the Office of Management and Budget.

Affected Public: The target population for the survey will be approximately 100 U.S. vessel and marine terminal operating companies.

Form Numbers: MA-1051, MA-1052.

Abstract: This collection will provide current marine transportation system operational data for the Marine Transportation Economic Impact Model that is not available through other means. The model uses information collected through surveys of the maritime operating areas to develop a profile of the industry. Since the last survey in 1999, significant increases in fuel, surface transportation, and security costs have occurred, as well as the introduction of new information and environmental technologies that have substantially affected marine transportation system operations.

Expiration Date of Approval: Three years from date of approval by the Office of Management and Budget.

Annual Estimated Burden Hours: 17.5 hours.

ADDRESSES: Send comments to the Office of Information and Regulatory Affairs, Office of Management and Budget, 725 17th Street, NW., Washington, DC 20503, Attention: MARAD Desk Officer.

Comments are invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect, if OMB receives it within 30 days of publication.

Dated: February 15, 2008.
Christine S. Gurland,
Acting Secretary, Maritime Administration.

[FR Doc. E8-3308 Filed 2-21-08; 8:45 am]

BILLING CODE 4910-81-P